FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Procurement Solicitation Package (FR 1400; OMB No. 7100-0180).

FOR FURTHER INFORMATION CONTACT:

Federal Reserve Board Clearance Officer—Nuha Elmaghrabi—Office of the Chief Data Officer, Board of Governors of the Federal Reserve System, Washington, DC 20551, (202) 452-3829.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements, and approved collection of information instrument(s) are available at https://www.reginfo.gov/public/do/PRAMain. These documents are also available on the Federal Reserve Board's public website at https://www.federalreserve.gov/apps/reportforms/review.aspx or may be requested from the agency clearance officer, whose name appears above.

Final Approval Under OMB Delegated Authority of the Extension for Three Years, Without Revision, of the Following Information Collection

Report title: Supplier Registration System.

Agency form number: FR 1400A.

OMB control number: 7100-0180.

Frequency: On occasion.

Respondents: Businesses and individuals.

Estimated number of respondents: 250.

Estimated average hours per response: 1.

Estimated annual burden hours: 250.

General description of report: The Board is continuously seeking suppliers who are interested in doing business with the Board through various outreach events, minority/diversity conferences, meetings, and events targeted to either a specific industry classification of suppliers or an upcoming acquisition. Suppliers are encouraged during these efforts to register in the Board's Supplier Registration System (FR 1400A). A supplier searching the internet can also find the registration system via the Board's public website and elect to register.¹ The Supplier Registration System collects pertinent information on their firm and the capabilities they can offer to the Board. While completion of the registration process does not guarantee future opportunities with the Board, it does bring a supplier's capabilities to the attention of procurement staff whose role is to match supplier capabilities with specific acquisition activities when contracting opportunities arise.

¹ https://www.federalreserve.gov/secure/vendorregistration/.

Report title: Solicitation Package.

Agency form number: FR 1400B.

OMB control number: 7100-0180.

Frequency: On occasion.

Respondents: Businesses and individuals.

Estimated number of respondents: 300.

Estimated average hours per response: 81.

Estimated annual burden hours: 24,300.

General description of report: In announcing an acquisition, Board staff contacts suppliers registered in the Board's system via electronic mail or by telephone, and provides the documents and applicable attachments included in the Solicitation Package (FR 1400B). The FR 1400B includes:

• A cover letter,

• A Solicitation, Offer, and Award Form (Attachment A) which outlines pertinent dates for the supplier as well as requires the supplier to input contact information and a summary of proposed pricing,

• A Supplier Information Form (Attachment N) that requires supplier contact information, demographic, and payment information so that the supplier can be properly established in the contract writing system and receive payment upon the receipt of a proper and valid invoice,

• A description, provided by the Board, of the goods or services desired,

• A statement of how the Board will evaluate the prospective suppliers,

• A statement of how the Board will evaluate the proposal,

• Solicitation instructions (how to prepare and submit the proposal, including all deadlines),

• Contract terms (work standards, inspections, work delays, work change orders, payment, taxes, and compliance with small business and labor laws), and

• Representations and certifications suppliers must make in order to participate in the solicitation.

The Solicitation Package may also include the Past Performance Data Sheet and Past Performance Questionnaire (Attachment I) if past performance is an evaluation factor. This questionnaire requests information on up to three previous contracts that are recent and relevant to the solicitation, such as a description of the work, the period of performance when the work was completed, the agency for which the work was performed, and an estimated total dollar amount of the effort.

Report title: Supplier Risk Management Offeror Questionnaire.

Agency form number: FR 1400C.

OMB control number: 7100-0180.

Frequency: On occasion.

Respondents: Businesses and individuals.

Estimated number of respondents: 60.

Estimated average hours per response: 4.

Estimated annual burden hours: 240.

General description of report: For solicitations that require the supplier to process, store, or transmit data from the Board, suppliers must complete the Supplier Risk Management Offeror Questionnaire (FR 1400C). This questionnaire requires suppliers to specify the security controls surrounding the supplier's security protocols and proposed application, if applicable, that will be used to process, store, or transmit the data.²

² Security controls are defined and prioritized based on the Federal Information Security Modernization Act of 2014 (FISMA) and the National Institute of Standards and Technology (NIST) Special Publication 800-53 (Security Controls and Assessment Procedures for Federal Information Systems and Organizations).

Report title: Subcontracting Report.

Agency form number: FR 1400D.

OMB control number: 7100-0180.

Frequency: On occasion.

Respondents: Businesses and individuals.

Estimated number of respondents: 20.

Estimated average hours per response: 1.

Estimated annual burden hours: 40.

General description of report: For solicitations that involve contracts that have subcontracting opportunities and are expected to exceed $100,000, or $300,000 for construction solicitations, non-covered company ³ suppliers must submit a subcontracting plan in the supplier's own format. The subcontracting plan provides information on the nature of subcontracted activities, including the percentage of subcontracted work, and identity of subcontractors, including the subcontractors' size and ownership status, the company will use if awarded the effort. If a supplier is awarded a contract following a Subcontracting Solicitation, the supplier must provide semiannual Subcontracting Reports (FR 1400D) to the Board to document compliance with section 342(e) of the Dodd-Frank Wall Street Reform and Consumer Protection Act (Dodd-Frank Act).⁴

³ A “covered company” is a firm qualified as a small business concern under the Small Business Act (15 U.S.C. 632) and regulations thereunder, including (1) business concerns that meet the size eligibility standards set forth in 13 CFR 121; (2) small business concerns owned and controlled by service-disabled veterans as defined by 15 U.S.C. 632(q); (3) qualified HUBZone small business concerns pursuant to 15 U.S.C. 632(p) and 13 CFR 126; (4) socially and economically disadvantaged small business concerns as defined by 15 U.S.C. 637 and certified as such under 13 CFR 125; and (5) small business concerns owned and controlled by women as defined by 15 U.S.C. 632(n).

⁴ 12 U.S.C. 5452(e) requires the Board to submit an annual report to Congress regarding the total amounts paid by the agency to contractors since the previous report, the successes achieved and challenges faced by the agency in operating minority and women outreach programs, the challenges the agency may face in hiring qualified minority and women employees and contracting with qualified minority-owned and women-owned businesses, and any other information, findings, conclusions, and recommendations for legislative or agency action.

Legal authorization and confidentiality: The filing requirements under the FR 1400 are authorized by sections 10 and 11 of the Federal Reserve Act (FRA) ⁵ and section 342(c) of the Dodd-Frank Act.⁶ Registering in the Supplier Registration System (FR 1400A) is voluntary. The remaining portions of the FR 1400 (FR 1400B, FR 1400C, and FR 1400D) are required to obtain a benefit for prospective suppliers to the Board.

⁵ Section 10(3) and section 11 of the FRA authorize the Board to manage its buildings and staff. 12 U.S.C. 243 and 248(1). Section 10(4) of the FRA authorizes the Board to determine and prescribe the manner in which its obligations shall be incurred and its disbursements and expenses allowed and paid. 12 U.S.C. 244.

⁶ 12 U.S.C. 5452(c) (requiring the Board to develop and implement standards and procedures for the review and evaluation of contract proposals and for hiring service providers that include a component that gives consideration to the diversity of a prospective supplier and the fair inclusion of women and minorities in the workforce of such supplier and any subcontractor).

A prospective supplier may request confidential treatment of information submitted as part of its Procurement Solicitation Package under exemption 4 of the Freedom of Information Act (FOIA), which protects commercial or financial information that is both customarily and actually treated as private.⁷ In addition, a prospective supplier may request confidential treatment of information pursuant to exemption 6 of the FOIA, which protects personal information, the disclosure of which would “constitute a clearly unwarranted invasion of privacy.” ⁸ Determinations of confidentiality based on exemption 4 or exemption 6 of the FOIA would be made on a case-by-case basis.

⁷ 5 U.S.C. 552(b)(4).

⁸ 5 U.S.C. 552(b)(6).

Current actions: On November 23, 2021, the Board published a notice in the Federal Register (86 FR 66557) requesting public comment for 60 days on the extension, without revision, of the Procurement Solicitation Package. The comment period for this notice expired on January 24, 2022. The Board did not receive any comments.

Board of Governors of the Federal Reserve System, April 1, 2022.
Margaret Shanks,
Deputy Secretary of the Board.

[FR Doc. 2022-07223 Filed 4-4-22; 8:45 am]

BILLING CODE 6210-01-P